DEPARTMENT OF JUSTICE

Antitrust Division

Notice Pursuant to the National Cooperative Research and Production Act of 1993—National Armaments Consortium

Notice is hereby given that, on July 14, 2021, pursuant to Section 6(a) of the National Cooperative Research and Production Act of 1993, 15 U.S.C. 4301 et seq. (“the Act”), National Armaments Consortium (“NAC”) has filed written notifications simultaneously with the Attorney General and the Federal Trade Commission disclosing changes in its membership. The notifications were filed for the purpose of extending the Act's provisions limiting the recovery of antitrust plaintiffs to actual damages under specified circumstances. Specifically, ABL Space Systems Company, El Segundo, CA; AI.Reverie, Inc., New York, NY; Beretta USA Corp., Accokeek, MD; Columbus Technologies and Services, Inc., El Segundo, CA; DataRobot, Boston, MA; Design Automation Associates, Inc., Windsor Locks, CT; Eos Energetics, Inc., Penrose, CO; Faraday Technology Inc., Englewood, OH; General Atomics—Commonwealth Computer Research, Inc., Charlottesville, VA; Halferty Consulting, LLC, North Liberty, IA; Intrepid, L. L. C., Huntsville, AL; KGMade, LLC, Norcross, GA; Major Tool & Machine, Indianapolis, IN; Memsel Inc., Haltom City, TX; NAL Research Corporation, Manassas, VA; Paragon Force Incorporated, Bloomfield, IN; Protonex LLC, Santa Rosa, CA; Rescue Rover, LLC, Gaithersburg, MD; Rock West Composites, San Diego, CA; and TSH X3 LLC, Annapolis, MD, have been added as parties to this venture.

Also, Broden Resource Solutions LLC, Orono, MN; DeLUX Engineering, LLC DBA DeLUX Advanced Manufacturing, LLC, Newark, DE; Design Automation Associates, Inc., Windsor Locks, CT; General Sciences Inc., Souderton, PA; Mobilestack, Inc., Dublin, CA; and Presagis USA, Inc., Orlando, FL, have withdrawn as parties to this venture.

No other changes have been made in either the membership or planned activity of the group research project. Membership in this group research project remains open, and NAC intends to file additional written notifications disclosing all changes in membership.

On May 2, 2000, NAC filed its original notification pursuant to Section 6(a) of the Act. The Department of Justice published a notice in the Federal Register pursuant to Section 6(b) of the Act on June 30, 2000 (65 FR 40693).

The last notification was filed with the Department on April 9, 2021. A notice was published in the Federal Register pursuant to Section 6(b) of the Act on May 11, 2021 (86 FR 25887).

Suzanne Morris,
Chief, Premerger and Division Statistics, Antitrust Division.

[FR Doc. 2021-18037 Filed 8-20-21; 8:45 am]

BILLING CODE P